GENERAL SERVICES ADMINISTRATION

48 CFR Part 538

[GSAR Case 2006-G507; Docket 2009-0013; Sequence 1]

RIN 3090-A177

General Services Administration Acquisition Regulation (GSAR); GSAR Case 2006-G507; Rewrite of GSAR Part 538, Federal Supply Schedule Contracting

AGENCY: Office of Acquisition Policy, General Services Administration (GSA).

ACTION: Proposed rule; withdrawal.

SUMMARY: The General Services Administration has agreed to withdraw GSAR Case 2006-G507; Rewrite of General Services Acquisition Regulation (GSAR) Part 538, Federal Supply Schedule Contracting. Due to the variety of issues addressed in the GSAR Part 538 Rewrite, and strong stakeholder interest, the General Services Administration believes that an agency review of the current implementation plan for this GSAR case is appropriate.

DATES: Effective date: December 28, 2012.

FOR FURTHER INFORMATION CONTACT: Ms. Dana Munson, Procurement Analyst, at 202-357-9652, for clarification of content. For information pertaining to status or publication schedules, contact the Regulatory Secretariat Division (MVCB), 1275 First Street, 7th Floor, Washington, DC 20417, 202-501-4755. Please cite GSAR Case 2006-G507, Proposed rule; withdrawal.

SUPPLEMENTARY INFORMATION: GSA has agreed to withdraw GSAR Case 2006-G507; Rewrite of General Services Acquisition Regulation (GSAR) Part 538, Federal Supply Schedule Contracting, which was published in the Federal Register at 74 FR 4596, January 26, 2009. There were 36 public comments received in response to the Advanced Notice of Proposed Rulemaking.

This rule proposed amendments to the GSAR to update text addressing GSAR Part 538: Subpart 538.1, Definitions; Subpart 538.4, Administrative Matters; Subpart 538.7, Acquisition Planning; Subpart 538.9, Contractor Qualifications; Subpart 538.12, Acquisition of Commercial Items—FSS; Subpart 538.15, Negotiation and Award of Contracts; Subpart 538.17, Administration of Evergreen Contracts; Subpart 538.19, FSS and Small Business Programs; Subpart 538.25, Requirements for Foreign Entities; Subpart 538.42, Contract Administration and Subpart 538.43, Contract Modifications.

GSA is opening a series of new GSAR cases to modernize the Federal Supply Schedules (FSS) program. The new GSAR cases will focus on the areas that require immediate modernization to maintain currency in the FSS program as well as strategically position the FSS program to meet the current and future needs of ordering activities.

List of Subjects in 48 CFR Part 538

Government procurement.

Dated: December 18, 2012.
Joseph A. Neurauter,
Senior Procurement Executive & Deputy Chief Acquisition Officer, Office of Acquisition Policy, General Services Administration.

[FR Doc. 2012-31056 Filed 12-27-12; 8:45 am]

BILLING CODE 6820-61-P